DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Aleutian Islands Pollock Fishery Requirements.

Form Number(s): None.

OMB Approval Number: 0648-0513.

Type of Request: Regular submission.

Burden Hours: 40.

Number of Respondents: 1.

Average Hours Per Response: 45 minutes.

Needs and Uses: The Consolidated Appropriations Act of 2004 requires the Aleutian Islands pollock fishery to be allocated to the Aleut Corporation for economic development of Adak, Alaska. The statute requires the Aleut Corporation's approval for participants and limits participation to American Fisheries Act qualified entities and vessels less than or equal to 60 ft overall length with certain endorsements.

Affected Public: Business or other for-profit organizations; individuals or households.

Frequency: Annually and may provide revisions.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 25, 2005.
Gwellnar Banks,
Management Analyst, Office of the Chief Information Officer.

[FR Doc. 05-17285 Filed 8-30-05; 8:45 am]

BILLING CODE 3510-22-P